DEPARTMENT OF LABOR

Office of the Secretary

Submission for OMB Review; Comment Request

April 23, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation, contact Darrin King on (202) 693-4129 or E-Mail: king.darrin@dol.gov.

Comments should be sent to Office of Information and Regulatory Affairs, Attn: OMB Desk Officer for MSHA, Office of Management and Budget, Room 10235, Washington, DC 20503 (202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration (MSHA).

Title: Miner Operator Dust Cards.

Type of Review: Extension of a currently approved collection.

OMB Number: 1219-0011.

Frequency: On occasion; annually; and bi-monthly.

Type of Response: Recordkeeping; reporting; and third party disclosure.

Affected Public: Business or other for-profit.

Number of Respondents: 1,049.

Requirement | Annual responses | Frequency | Average response time (hours) | Annual burden hours
Mine Operator Duct Data Cards | 39,000 | Bi-monthly | see below | see below
Prepare and Approve Sampler Unit (28,000): |  | Bi-monthly | 0.8333 | 23,332
Operational Checks/Monitoring (39,000): |  | Bi-monthly | 0.17 | 6,630
Complete Data Card (39,000) |  | Bi-monthly | 0.25 | 9,750
Sampling by Contractor | 2,600 | Bi-monthly | 0 | 0
Reporting of Sampling Dates | 400 | On occasion | 1 | 400
Dust Sampling Certification:
Training and Exam | 160 | On occasion | 8 | 1,280
Exam Only | 40 | On occasion | 1.5 | 60
Status Change Reports | 3,800 | On occasion | 0.42 | 1,596
Dust Control Plan (30 CFR 71.300):
New Plans | 24 | On occasion | 3 | 72
Revised Plans | 5 | On occasion | 1.25 | 6
Copy and Mailing Plan | n/a | On occasion | 0.17 | 5
Posting of Dust Control Plan | 29 | On occasion | 0.25 | 7
Dust Control Plan (30 CFR 90.300):
New Plans | 1 | On occasion | 3 | 3
Revised Plans | 1 | On occasion | 1.25 | 1
Copy and Mailing Plan | n/a | On occasion | 0.17 | 0.0
Providing Dust Control Plan to Part 90 Miners | 2 | On occasion | 0.42 | 1
Total | 46,062 |  |  | 43,144

Total Annualized capital/startup costs: $1,009,454.

Total annual costs (operating/maintaining systems or purchasing services): $1,714,547.

Description: 30 CFR, 70.201(c), 71.201(c), and 90.201(c), authorizes the District Manager to require the mine operator to submit the date on which sampling will begin. Only a certified person is allowed to conduct the respirable dust sampling required by these parts.

Sections 70.202(b), 71.202(b), and 90.202(b), requires that the person must pass the MSHA examination on sampling of respirable coal mine dust.

Sections 70.220(a), 71.220(a), requires the operator to report status changes to MSHA in writing within 3 working days after the status change has occurred.

Sections 70.209, 71.209, and 90.209, requires persons who are certified by MSHA to take respirable dust samples to complete the dust data card that accompanies each sample being submitted for analysis.

Sections 71.300 and 90.300 require a coal mine operator to submit to MSHA for approval a written respirable dust control plan with 15 calendar days after the termination data of a citation for violation of the applicable dust standard.

Section 71.301(d) requires the respirable dust control plan to be posted on the mine bulletin board however, 90.301(d) prohibits posting of the dust control plan for part-90 miners and, instead, requires a copy be provided to the affected part-90 miner.

Ira L. Mills,
Departmental Clearance Officer.

[FR Doc. 03-10863 Filed 5-1-03; 8:45 am]

BILLING CODE 4510-43-P